DEPARTMENT OF HOMELAND SECURITY

Federal Emergency Management Agency

[Docket ID: FEMA-2023-0021; OMB No. 1660-0142]

Agency Information Collection Activities: Submission for OMB Review, Comment Request; Shelter Resident Assessment Tool V2.0

AGENCY: Federal Emergency Management Agency, Department of Homeland Security.

ACTION: 30-Day notice of revision and request for comments.

SUMMARY: The Federal Emergency Management Agency (FEMA) will submit the information collection abstracted below to the Office of Management and Budget for review and clearance in accordance with the requirements of the Paperwork Reduction Act of 1995. The submission seeks comments concerning the transition of the Survivor Shelter Assessment Tool (SSAT), renamed the Shelter Resident Assessment Tool V 2.0 (SRAT), to the Mass Care/Emergency Assistance Section and how the interview process was simplified and streamlined.

DATES: Comments must be submitted on or before February 15, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address: FEMA-Information-Collections-Management@fema.dhs.gov or Ronan Dalcross, Mass Care & Emergency Assistance Section Chief, Individual Assistance Division, FEMA Recovery Directorate, fema-hq-mass-care@fema.dhs.gov, (202) 212-7269.

SUPPLEMENTARY INFORMATION: The Robert T. Stafford Disaster Relief and Emergency Assistance Act (Stafford Act) (Pub. L. 93-288, as amended) is the legal basis for FEMA to provide financial assistance and services to individuals who apply for disaster assistance in the event of a declared Emergency or Major disaster. The Individuals and Households Program provides financial assistance and, if necessary, direct assistance to eligible individuals and households who, as a direct result of a major disaster or emergency declaration, have uninsured or under-insured necessary expenses, a serious need and are unable to meet such expenses or needs through other means under section 408 of the Stafford Act, as codified at 42 U.S.C. 5174, and its implementing regulations at 44 CFR 206.110. FEMA requires the ability to collect information regarding the housing needs of shelter residents expressing interest in or seeking disaster assistance to provide services and assistance to transition them out of shelters and into temporary or permanent housing solutions expeditiously. Additionally, aggregated reports resulting from the individualized data collection about shelter residents and their unmet housing and related needs will support planning activities for FEMA, state entities, and Non-Governmental Organizations to transition residents out of the shelter.

This proposed information collection previously published in the Federal Register on September 27, 2023, at 88 FR 66478 with a 60-day public comment period. One public comment was received with multiple questions about the instrument itself. Comments mentioned the accessibility and 508 compliance in the document used to present the questions, and not the tool itself. Clarification was provided about the tool, and the suggested additional items were added to the list of accessible communication items in question 2 of the instrument. The purpose of this notice is to notify the public that FEMA will submit the information collection abstracted below to the Office of Management and Budget for review and clearance.

Collection of Information

Title: Shelter Resident Assessment Tool (SRAT) V2.0.

Type of Information Collection: Revision of a currently approved information collection.

OMB Number: 1660-0142.

FEMA Forms: FEMA Form FF-104-FY-21-168 (formerly 009-0-42), Shelter Resident Assessment Tool (SRAT) V2.0.

Abstract: FEMA requires the ability to collect information regarding the housing needs of shelter residents to provide services and assistance to transition them out of shelters and into temporary or permanent housing solutions expeditiously. FEMA may provide Public Assistance funding to State, Tribal, and Territorial governments for costs related to emergency shelter under section 403 of the Stafford Act, as codified at 42 U.S.C. 5170b. Aggregated reports resulting from the individualized data collection will support state, Non-Governmental Organizations and FEMA planning activities to transition the shelter population.

Affected Public: Individuals or Households (Primary); Federal Government; State, Local or Tribal Government; Not-For-Profit.

Estimated Number of Respondents: 7,500.

Estimated Number of Responses: 7,500.

Estimated Total Annual Burden Hours: 1,625.

Estimated Total Annual Respondent Cost: $70,119.

Estimated Respondents' Operation and Maintenance Costs: $0.

Estimated Respondents' Capital and Start-Up Costs: $0.

Estimated Total Annual Cost to the Federal Government: $73,090.

Comments

Comments may be submitted as indicated in the ADDRESSES caption above. Comments are solicited to (a) evaluate whether the proposed data collection is necessary for the proper performance of the Agency, including whether the information shall have practical utility; evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2024-00672 Filed 1-12-24; 8:45 am]

BILLING CODE 9111-24-P